DEPARTMENT OF TRANSPORTATION

Federal Aviation Administration

14 CFR Part 39

[Docket No. 2001-NM-352-AD]

RIN 2120-AA64

Airworthiness Directives; Airbus Model A330 and A340 Series Airplanes

AGENCY: Federal Aviation Administration, DOT.

ACTION: Notice of proposed rulemaking (NPRM).

SUMMARY: This document proposes the supersedure of an existing airworthiness directive (AD), applicable to certain Airbus Model A330 and A340 series airplanes, that currently requires repetitive inspections to check the play of the eye-end of the piston rod of the elevator servo-controls, and follow-on corrective actions, if necessary. This action would require the replacement of certain elevator servo-controls with new, improved servo-controls. The actions specified by the proposed AD are intended to detect and correct excessive play of the eye-end of the piston rod of the elevator servo-controls, which could result in failure of the elevator servo-control. This action is intended to address the identified unsafe condition.

DATES: Comments must be received by April 26, 2004.

ADDRESSES: Submit comments in triplicate to the Federal Aviation Administration (FAA), Transport Airplane Directorate, ANM-114, Attention: Rules Docket No. 2001-NM-352-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-352-AD” in the subject line and need not be submitted in triplicate. Comments sent via the Internet as attached electronic files must be formatted in Microsoft Word 97 or 2000 or ASCII text.

The service information referenced in the proposed rule may be obtained from Airbus, 1 Rond Point Maurice Bellonte, 31707 Blagnac Cedex, France. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-352-AD.” The postcard will be date stamped and returned to the commenter.

Availability of NPRMs

Any person may obtain a copy of this NPRM by submitting a request to the FAA, Transport Airplane Directorate, ANM-114, Attention: Rules Docket No. 2001-NM-352-AD, 1601 Lind Avenue, SW., Renton, Washington 98055-4056.

Discussion

On June 7, 2000, the FAA issued AD 2000-12-06, amendment 39-11784 (65 FR 37476, June 15, 2000), applicable to certain Airbus Model A330 and A340 series airplanes, to require repetitive inspections to check the play of the eye-end of the piston rod of the elevator servo-controls, and follow-on corrective actions, if necessary. That action was prompted by a report of a broken piston rod of an elevator servo-control. The requirements of that AD are intended to detect and correct excessive play of the eye-end of the piston rod of the elevator servo-controls, which could result in failure of the elevator servo-control.

Actions Since Issuance of Previous Rule

Since the issuance of AD 2000-12-06, the Direction Générale de l'Aviation Civile (DGAC), which is the airworthiness authority for France, issued French airworthiness directives 2001-518(B) and 2001-519(B), both dated October 31, 2001. The French airworthiness directives continue to require the repetitive inspections to check the play of the eye-end of the piston rod of the elevator servo-controls, and any necessary follow-on corrective actions. The French airworthiness directives also mandate replacement of certain elevator servo-controls with new, improved elevator servo controls, which would eliminate the need for the repetitive inspections required by AD 2000-12-06. The applicability of the French airworthiness directives excludes airplanes modified in production.

Explanation of Relevant Service Information

Airbus has issued Service Bulletins A330-27-3076 (for Model A330 series airplanes) and A340-27-4083 (for Model A340 series airplanes), both Revision 02, both dated July 11, 2002. The service bulletins include procedures for:

• Replacing the rod eye of certain elevator servo-controls and modifying those elevator servo-controls.

• Replacing certain servo-controls with new, improved servo-controls.

• Removing and reinstalling the items that attach the elevator servo-controls to the elevator attachment bracket, checking the position of each elevator servo-control after it has been modified or replaced, and tightening the nuts to the appropriate torque (5 m.daN (37.0 lbf ft)).

The DGAC classified these service bulletins as mandatory and issued French airworthiness directives 2001-518(B) and 2001-519(B), both dated October 31, 2001, to ensure the continued airworthiness of these airplanes in France.

The Airbus service bulletins reference TRW Service Bulletin SC4800-27-34-09, Revision 1, dated November 9, 2001, as an additional source of service information for accomplishment of the part replacement.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would supersede AD 2000-12-06 to continue to require repetitive inspections to check the play of the eye-end of the piston rod of the elevator servo-controls, and any necessary follow-on corrective actions. This new action would require the replacement of certain elevator servo-controls with new, improved servo-controls. The actions would be required to be accomplished in accordance with the service bulletins described previously.

Changes to 14 CFR Part 39/Effect on the AD

On July 10, 2002, the FAA issued a new version of 14 CFR part 39 (67 FR 47997, July 22, 2002), which governs the FAA's airworthiness directives system. The regulation now includes material that relates to altered products, special flight permits, and alternative methods of compliance (AMOC). Because we have now included this material in part 39, only the office authorized to approve AMOCs is identified in each individual AD. Therefore, paragraph (c) and Note 1 of AD 2000-12-06 are not included in this proposed AD.

Cost Impact

There are approximately 9 airplanes of U.S. registry that would be affected by this proposed AD.

The actions that are currently required by AD 2000-12-06 and retained in this proposed AD take approximately 2 work hours per airplane to accomplish, at an average labor rate of $65 per work hour. Based on these figures, the cost impact of the currently required repetitive inspections is estimated to be $1,170, or $130 per airplane, per inspection cycle.

The new actions that are proposed in this AD action would take between 15 and 20 work hours per airplane to accomplish, at an average labor rate of $65 per work hour. Required parts would be provided at no cost. Based on these figures, the cost impact of the proposed part replacement is estimated to be between $975 and $1,300 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Currently, there are no Airbus Model A340 series airplanes on the U.S. Register. However, should an affected airplane be imported and placed on the U.S. Register in the future, it would take between 15 and 20 work hours per airplane to accomplish the proposed part replacement, at an average labor rate of $65 per work hour. Based on these figures, the cost impact of part replacement would be between $975 and $1,300 per airplane.

Regulatory Impact

The regulations proposed herein would not have a substantial direct effect on the States, on the relationship between the national government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11784 (65 FR 37476, June 15, 2000), and by adding a new airworthiness directive (AD), to read as follows:

Airbus: Docket 2001-NM-352-AD. Supersedes AD 2000-12-06, Amendment 39-11784.

Applicability: Model A330 and A340 series airplanes equipped with any “SAMM” elevator servo-control having any part number (P/N) SC4800-2, SC4800-3, SC4800-4, SC4800-5, SC4800-6, SC4800-7, or SC4800-8; certificated in any category; except those with Airbus Modification 47674 installed in production.

Compliance: Required as indicated, unless accomplished previously.

To detect and correct excessive play of the eye-end of the piston rod of the elevator servo-controls, which could result in failure of the elevator servo-control, accomplish the following:

Restatement of Requirements of AD 2000-12-06

(a) Within 30 months since date of manufacture of the airplane, or within 500 flight hours after July 20, 2000 (the effective date of AD 2000-12-06), whichever occurs later, perform an inspection to check the play of the piston rod eye-ends of the elevator servo-controls, in accordance with Airbus Service Bulletin A330-27-3062 (for Model A330 series airplanes), Revision 01, dated July 21, 1999, or Revision 02, dated February 11, 2000, or Revision 03, dated August 9, 2000, or Revision 04, dated January 30, 2001; or Airbus Service Bulletin A340-27-4072 (for Model A340 series airplanes), Revision 01, dated July 21, 1999, or Revision 02, dated February 11, 2000, or Revision 03, dated August 9, 2000, or Revision 04, dated January 30, 2001; as applicable. Thereafter, repeat the inspection at intervals not to exceed 15 months, until accomplishment of paragraph (b) of this AD.

(1) If any play that is 0.0059 inch (0.15 mm) or greater and less than 0.0118 inch (0.30 mm) is detected: Prior to further flight, replace the rod eye-end with a new SARMA or NMB rod eye-end, in accordance with the applicable service bulletin.

(2) If any play that is 0.0118 inch (0.30 mm) or greater is detected: Prior to further flight, perform a dye penetrant inspection to detect cracking of the servo-control, in accordance with the applicable service bulletin.

(i) If no crack is detected: Prior to further flight, replace the rod eye-end with a new SARMA or NMB rod eye-end, in accordance with the applicable service bulletin.

(ii) If any crack is detected: Prior to further flight, replace the servo-control with a new servo-control, in accordance with the applicable service bulletin.

Note 1: Accomplishment of an inspection in accordance with Airbus Service Bulletin A330-27-3062 (for Model A330 series airplanes) or A340-27-4072 (for Model A340 series airplanes), both dated February 5, 1999; is considered acceptable for compliance with the initial inspection requirements of paragraph (a) of this AD.

Note 2: The Airbus service bulletins reference SAMM Service Bulletin SC4800-27-34-06, dated January 2, 1999, as an additional source of service information for accomplishment of the dye penetrant inspection specified by paragraph (a)(2) of this AD.

New Requirements of This AD

Replacement

(b) Within 34 months after the effective date of this AD, replace any elevator servo-control having any P/N SC4800-2, SC4800-3, SC4800-4, SC4800-5, SC4800-6, SC4800-7, or SC4800-8, with an elevator servo-control having P/N SC4800-7A or SC4800-9, in accordance with Airbus Service Bulletin A330-27-3076 (for Model A330 series airplanes) or A340-27-4083 (for Model A340 series airplanes), both Revision 02, both dated July 11, 2002, as applicable. Accomplishment of this replacement terminates the repetitive inspections required by paragraph (a) of this AD.

Note 3: The Airbus service bulletins reference TRW Service Bulletin SC4800-27-34-09, Revision 1, dated November 9, 2001, as an additional source of service information for accomplishment of the part replacement.

Alternative Methods of Compliance

(c) In accordance with 14 CFR 39.19, the Manager, International Branch, ANM-116, Transport Airplane Directorate, FAA, is authorized to approve alternative methods of compliance for this AD.

Note 4: The subject of this AD is addressed in French airworthiness directives 2001-518(B) and 2001-519(B), both dated October 31, 2001.

Issued in Renton, Washington, on March 19, 2004.
Kevin M. Mullin,
Acting Manager, Transport Airplane Directorate, Aircraft Certification Service.

[FR Doc. 04-6678 Filed 3-24-04; 8:45 am]

BILLING CODE 4910-13-P